DEPARTMENT OF LABOR

Mine Safety and Health Administration

Petitions for Modification of Application of Existing Mandatory Safety Standards

AGENCY: Mine Safety and Health Administration (MSHA), Labor.

ACTION: Notice.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before May 20, 2011.

ADDRESSES: You may submit your comments, identified by “docket number” on the subject line, by any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2011-004-C, M-2011-005-C, and M-2011-006-C.

Petitioner: Amfire Mining Company, LLC, One Energy Place, Latrobe, Pennsylvania 15650.

Mine: Barrett Mine, MSHA I.D. No. 36-09342, Gillhouser Mine, MSHA I.D. No. 36-09033, Nolo Mine, MSHA I.D. No. 36-08850.

Regulation Affected: 30 CFR 75.503 (Permissible electric face equipment; maintenance) and 30 CFR 18.35(a)(5)(i) (Portable trailing cables and cords).

Modification Request: The petitioner requests a modification of the existing standard to permit the use of extended trailing cables on Mobile Bridge Conveyors, Dual Boom Roof Bolters, Continuous Miners, and Shuttle Cars. The petitioner states that these petitions will apply to: (1) Trailing cables that supply 995-Volt 3 Phase AC current to Continuous Miners and Mobile Bridge Conveyors; and (2) trailing cables which supply 480-volt 3 phase AC current to Roof Bolters and Shuttle Cars. The cables will have a 90 degree insulation rating. Additionally, the petitioner states that: (1) The extended length of trailing cables used on Shuttle Cars and Roof Bolters will be 3 conductor round cable, type G-GC, type G or type G & GC. When a type G-GC or type G & GC round cable is used with wireless ground wire monitoring, the ground check conductor will be connected as a ground conductor; (2) the maximum cable length of the Miner, Mobile Bridge Conveyor, Roof Bolters and Shuttle Cars will not exceed 1000 feet. The trailing cable for the Miner will not be smaller than #2/0 American Wire Gauge (AWG). The trailing cable for the Roof Bolter and Shuttle Car will not be smaller than a #4 AWG, and the trailing cable for the haulage unit will not be smaller than a #2 AWG; (3) all circuit breakers used to protect the #4 AWG trailing cables exceeding 600 feet in length will have instantaneous trip units calibrated to trip at 500 amperes (AMPS). The trip settings of these breakers will either be sealed or the breaker trip units will not be larger than 500 AMPS. The circuit breakers will have permanent legible labels attached. The label will identify the circuit breakers as being suitable for protecting #4 AWG cables; (4) replacement breakers and/or instantaneous trip units used to protect #4 AWG cables will be calibrated to trip at 500 AMPS and this setting will be sealed or trip units will not be larger than 500 AMPS; (5) all circuit breakers used to protect #2 AWG cables exceeding 700 feet in length will have instantaneous trip units calibrated to trip at 800 AMPS. The trip settings of these circuit breakers will be sealed and will have permanent legible labels. The label will identify the circuit breakers as being suitable for protecting #2 AWG cables; (6) replacement circuit breakers and/or instantaneous trip units used to protect #2 AWG trailing cables will be calibrated to trip at 800 AMPS and this setting will be sealed; (7) all circuit breakers used to protect #2/0 AWG trailing cables exceeding 850 feet in length will have instantaneous trip units calibrated to trip at 1500 AMPS. The trip setting of these circuit breakers will be sealed, or the maximum available setting on the trip units will not be greater than 1500 AMPS. These circuit breakers will have permanent legible labels. The label will identify the circuit breaker as being suitable for protecting #2/0 AWG cables; (8) replacement breakers and/or instantaneous trip units used to protect #2/0 AWG trailing cables will be calibrated to trip at 1500 AMPS and this setting will be sealed or maximum size of the trip unit will be 1500 AMPS; (9) all components that provide short circuit protection will have a sufficient interruption rating in accordance with maximum calculated fault currents available; (10) during each production day, persons designated by the operator will visually examine the trailing cables to ensure the cables are in safe operating condition and that the instantaneous settings of the specially calibrated breakers do not have seals removed or tampered with and they do not exceed 500, 800 or 1500 AMPS respectively; (11) any trailing cable that is not in a safe operating condition will be removed from service immediately and repaired or replaced; (12) each splice or repair in the trailing cables to the Miner, Mobile Bridge Conveyor, Roof Bolter or shuttle car will be made in a workmanlike manner and in accordance with the instructions of the manufacturer of the splice or repair materials. The splice or repair will comply with 30 CFR 75.603 and 75.604 requirements; (13) permanent warning labels will be installed and maintained on the cover or covers of the power center identifying the location of each sealed short circuit protective drive. The labels will warn miners not to change or alter these sealed short circuit settings; (14) in the event the mining methods or operating procedures cause or contribute to the damage of any trailing cable, the cable will be removed from service immediately and repaired or replaced. Additional precautions will be taken to ensure that haulage roads and trailing cable storage areas are situated to minimize contact of the trailing cable with the Continuous Miner, Mobile Bridge Conveyor, Shuttle Cars and Roof Bolters. Trailing cables, anchors or cable real equipment will be of permanent type that minimizes the tensile forces on the trailing cables; (15) where the method of mining would require that trailing cables cross roadways or haulage ways, the cables will be securely supported from the mine roof or a substantial bridge for equipment to pass over the cables will be provided and used; (16) excess cable will be stored behind the anchor or anchors on equipment that uses cable reels to prevent the cables from overheating; (17) this change will not be implemented until this petition for modification is approved and all miners who will be responsible for examining the cables and associated electrical components have been trained on the contents and precautions included in the petition; and (18) proposed revisions for the approved Part 48 training plan will be submitted to the District Manager for the areas for which the mines are located. The training will include: (a) The hazards of setting the short circuit interrupting device or devices too high to adequately protect the trailing cables; (b) how to verify that the circuit interrupting devices protecting the trailing cables are properly set and maintained; (c) mining methods and operating procedures that will protect the trailing cables from damage; (d) how to protect the trailing cables against damage caused by overheating cables due to excessive cable stored on reels and adjusting stored cable behind cable anchors as tramming distances change; and (e) proper procedures for examining the trailing cable to ensure the cables are in safe operating condition by a visual inspection of the entire cable, observing the insulation, the integrity of splices, nicks and abrasions. The petitioner further states that if regulations are subsequently promulgated that supersede the requirements of 30 CFR 75.503 (18.35(a)(5)(i), the standard, unless it is determined by the Secretary or his representative after opportunity for input from the operator that the alternative method contained in the petition will at all times guarantee no less than the same measure of protection afforded the subsequent promulgated standard. The petitioner asserts that the proposed alternative method will provide for a level of safety equal to or greater than the statute in place.

Dated: April 12, 2011.
Patricia W. Silvey,
Certifying Officer.

[FR Doc. 2011-9193 Filed 4-19-11; 8:45 am]

BILLING CODE 4510-43-P